DEPARTMENT OF ENERGY

Federal Energy Regulatory Commission

[Docket No. CP04-36-005]

Weaver's Cove Energy, LLC; Notice of Filing

February 11, 2009.

Take notice that on January 30, 2009, Weaver's Cove Energy, LLC (Weaver's Cove) filed an application, pursuant to Section 3 of the Natural Gas Act (NGA) and Parts 153 and 380 of the Commission's Rules and Regulations, to amend its certificate issued on July 15, 2005 in Docket No. CP04-36-000. Weaver's Cove requests authority to site, construct, and operate an offshore berth for receiving and unloading LNG for the approved LNG terminal, in Mount Hope Bay in Massachusetts waters. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Weaver's Cove proposes to construct, and operate: (1) An offshore berth for receiving and unloading LNG tankers in Mount Hope Bay in Massachusetts waters, (2) an LNG transfer system with buried submarine LNG transfer lines incorporating insulated “pipe-in-pipe” technology (PiP) to transfer LNG from the offshore berth to the LNG storage tank at the certificated terminal in Fall River, Massachusetts, and (3) associated minor piping and equipment changes at the terminal to accommodate the PiP transfer system. The proposed offshore berth is located approximately four miles from the certificated LNG terminal. The proposed location is approximately one mile from the nearest shoreline and two miles south of the Braga Bridge. Weaver's Cove proposes to begin construction in June 2011 and meet an in-service date in December 2014.

Any questions regarding the application are to be directed to Marcia MacClary, Weaver's Cove Energy, LLC, One New Street, Fall River, MA 02720, (508) 675-9470, or Bruce Kiely, Baker Botts L.L.P., 1299 Pennsylvania Ave., NW., Washington, DC 20004, (202) 639-7711.

On April 29, 2008, the Commission staff granted Weaver's Cove's request to use the National Environmental Policy Act (NEPA) Pre-Filing Process and assigned Docket No. PF08-18-000 to staff activities involving the offshore berth project. Now, as of the filing of this application on January 30, 2009, the NEPA Pre-Filing Process for this project has ended. From this time forward, this proceeding will be conducted in Docket No. CP04-36-005, as noted in the caption of this Notice.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF08-18-000 are already on the Commission staff's environmental mailing list for the proceeding in the above dockets and may file additional comments on or before the below listed comment date. Environmental commenters will not be required to serve copies of filed documents on all other parties. However, environmental commenters are also not parties to the proceeding and will not receive copies of all documents filed by other parties or non-environmental documents issued by the Commission. Further, they will not have the right to seek court review of any final order by Commission in this proceeding.

Motions to intervene, protests and comments may be filed electronically via the Internet in lieu of paper, see 18 CFR 385.2001 (a)(1)(iii) and the instructions on the Commission's Web site under the “e-Filing” link. The Commission strongly encourages electronic filings.

Comment Date: March 4, 2009.

Kimberly D. Bose,
Secretary.

[FR Doc. E9-3456 Filed 2-18-09; 8:45 am]

BILLING CODE 6717-01-P